DEPARTMENT OF HEALTH AND HUMAN SERVICES

Administration for Children and Families

Submission for OMB Review; Comment Request

Title: 2019 National Survey of Early Care and Education

OMB No.: 0970-0391

Description: The Administration for Children and Families (ACF), U.S. Department of Health and Human Services (HHS), is proposing a data collection activity as part of the National Survey of Early Care and Education (NSECE) which will be conducted October 2018 through August 2019. The objective of the NSECE is to document the nation's current supply of early care and education services (that is, home-based providers, center-based providers, and the center-based provider workforce). The 2019 NSECE will collect information on child care and early education providers that serve families with children from birth to 13 years in the country, as well as the early care and education (ECE) workforce providing these services. The proposed collection will consist of three coordinated nationally representative surveys:

1. A survey of individuals providing care for children under the age of 13 in a residential setting (Home-based Provider Interview),

2. a survey of providers of care to children ages 0 through 5 years of age (not yet in kindergarten) in a non-residential setting (Center-based Provider Interview), and

3. a survey conducted with individuals employed in center-based child care programs working directly with children in classrooms (Workforce Interview).

Both the home-based and center-based provider surveys will require a screener to determine eligibility for the main survey.

The 2019 NSECE data collection efforts will provide urgently needed information about the supply of child care and early education available to families across all income levels, including providers serving low-income families of various racial, ethnic, language, and cultural backgrounds, in diverse geographic areas. The provider data will include programs that do or do not participate in the child care subsidy program, are regulated, registered, or otherwise appear in state or national lists and are home-based providers or center-based programs (e.g., private, community-based child care, Head Start, and state or local Pre-K). Accurate data on the availability and characteristics of early care and education programs are essential to assess the current and changing landscape of child care and early education programs since the 2012 NSECE data collection, and to provide insights to advance policy and initiatives in the ECE field.

Respondents: Home-based providers serving children under 13 years, center-based child care providers (including public schools) serving children ages 0 through 5 years of age (not yet in kindergarten), and selected instructional staff members from these center-based child care providers.

Annual Burden Hours
Instrument | Annual number of respondents | Number of responses per respondent | Average burden hours per response | Estimated annual burden hours
Home-Based Provider Interview, including Screener | 4,000 | 1 | .67 | 2,680
Home-based Provider Screener, no interview | 2,015 | 1 | .03 | 60
Center-Based Provider Interview, including Screener | 7,800 | 1 | . 8 | 6,240
Center-based Provider Screener, no interview | 7,640 | 1 | .1 | 764
Workforce Provider Interview | 5,600 | 1 | .33 | 1,848
Estimated Total Annual Burden Hours |  |  |  | 11,592

Additional Information: Copies of the proposed collection may be obtained by writing to the Administration for Children and Families, Office of Planning, Research, and Evaluation, Switzer Building, 330 C Street, SW, Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Emily Jabbour,
ACF/OPRE Certifying Officer.

[FR Doc. 2018-17560 Filed 8-14-18; 8:45 am]

BILLING CODE 4184-23-P